DEPARTMENT OF ENERGY

Federal Energy Regulatory Commission

[Docket No. RP99-480-007]

Texas Eastern Transmission, LP; Notice of Compliance Filing

February 10, 2004.

Take notice that on February 5, 2004, Texas Eastern Transmission, LP (Texas Eastern) tendered for filing as part of its FERC Gas Tariff, Seventh Revised Volume No. 1, the following tariff sheets, effective January 29, 2004:

Sub Second Revised Sheet No. 200

Sub Fourth Revised Sheet No. 211

Sub Second Revised Sheet No. 223

Sub First Revised Sheet No. 281

Sub First Revised Sheet No. 291

Sub Second Revised Sheet No. 644

Texas Eastern states that the purpose of this filing is to comply with the Commission's Order issued in the captioned docket on January 29, 2004 (January 29 Order).

Texas Eastern states that it is modifying section 2.2 of Rate Schedules FT-1, CDS, SCT, LLFT and VKFT to provide that Texas Eastern may agree to differing MDQ levels during a contract year “on a not unduly discriminatory basis.” In addition, Texas Eastern states that it is removing all language relating to the treatment of differing MDQ levels as a “discount,” as directed in the January 29 Order.

Texas Eastern states that copies of its filing have been served on all affected customers, interested state commissions, and all parties on the Commission's official service list in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-289 Filed 2-13-04; 8:45 am]

BILLING CODE 6717-01-P